DEPARTMENT OF THE INTERIOR

National Park Service

[NPS-WASO-NAGPRA-22603; PPWOCRADN0-PCU00RP14.R50000]

Notice of Intent To Repatriate Cultural Items: State Historical Society of North Dakota, Bismarck, ND

AGENCY: National Park Service, Interior.

ACTION: Notice.

SUMMARY: The State Historical Society of North Dakota, in consultation with the appropriate Indian tribes or Native Hawaiian organizations, has determined that the cultural item listed in this notice meets the definition of an unassociated funerary object. Lineal descendants or representatives of any Indian tribe or Native Hawaiian organization not identified in this notice that wish to claim these cultural items should submit a written request to the State Historical Society of North Dakota. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the State Historical Society of North Dakota at the address in this notice by March 27, 2017.

ADDRESSES: Wendi Field Murray, State Historical Society of North Dakota, 612 East Boulevard Avenue, Bismarck, ND 58505, telephone (701) 328-3506, wmurray@nd.gov.

SUPPLEMENTARY INFORMATION: Notice is here given in accordance with the Native American Graves Protection and Repatriation Act (NAGPRA), 25 U.S.C. 3005, of the intent to repatriate a cultural item under the control of the State Historical Society of North Dakota, Bismarck, ND, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Sometime between 1850 and 1931, one cultural item was removed from a gravesite in Lincoln County, GA. Dr. James Grassick, a University of North Dakota physician, collected a stone pipe fragment from a “grave in Lincoln, Georgia” (according to records). Dr. Grassick donated more than 400 Native American items to the State Historical Society on October 26, 1931, from various states, including Georgia. The one unassociated funerary object is a pipe bowl fragment made of steatite. The pipe is likely of the handle or elbow type. Records do not provide any additional information regarding the object's archeological context or provenance.

In consultation with Native American tribes, State Historical Society officials determined that the museum records actually refer to Lincoln County, GA, which is located on the state's eastern border. The pipe bowl was recovered from what were the traditional lands of the Cherokee Nation, The Muscogee (Creek) Nation, and United Keetoowah Band of Cherokee Indians in Oklahoma. The determination of cultural affiliation of the unassociated funerary object is based on geographical, archeological, anthropological, and historical evidence, as well as other expert opinions. The unassociated funerary object is consistent with cultural items typically found in the burial contexts among these three groups. Lincoln County, GA, falls within Creek and Cherokee aboriginal lands ceded in the Treaty of Augusta (1773). Archeological evidence indicates the presence of stone pipes in burials at Middle Mississippi site (Dallas phase), believed to be ancestral to contemporary Creek and Cherokee tribes. They are also found archeologically, associated with adult burials among the Creek and Cherokee. The manufacture of steatite was also known among the Cherokee, and is a practice that continues to the present day. The extant evidence narrows the possibilities for cultural affiliation to modern-day Creek and Cherokee groups, but the lack of information regarding the object's date or provenience does not allow for a more specific determination. The Cherokee Nation, The Muscogee (Creek) Nation, and United Keetoowah Band of Cherokee Indians in Oklahoma have filed a joint claim for the object.

Determinations Made by the State Historical Society of North Dakota

Officials of the State Historical Society of North Dakota have determined that:

• Pursuant to 25 U.S.C. 3001(3)(B), the 1 cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cherokee Nation, The Muscogee (Creek) Nation, and United Keetoowah Band of Cherokee Indians in Oklahoma.

Additional Requestors and Disposition

Lineal descendants or representatives of any Indian tribe or Native Hawaiian organization not identified in this notice that wish to claim these cultural items should submit a written request with information in support of the claim to Wendi Field Murray, State Historical Society of North Dakota, 612 East Boulevard Avenue, Bismarck, ND 58505, telephone (701) 328-3506, wmurray@nd.gov by March 27, 2017. After that date, if no additional claimants have come forward, transfer of control of the unassociated funerary object to the Cherokee Nation, The Muscogee (Creek) Nation, and United Keetoowah Band of Cherokee Indians in Oklahoma may proceed.

The State Historical Society of North Dakota is responsible for notifying the Absentee-Shawnee Tribe of Indians of Oklahoma, Alabama-Coushatta Tribe of Texas (previously listed as the Alabama-Coushatta Tribes of Texas), Alabama-Quassarte Tribal Town, Cherokee Nation, Coushatta Tribe of Louisiana, Eastern Band of Cherokee Indians, Eastern Shawnee Tribe of Oklahoma, Jena Band of Choctaw Indians, Kialegee Tribal Town, Miccosukee Tribe of Indians, Mississippi Band of Choctaw Indians, Poarch Band of Creeks (previously listed as the Poarch Band of Creek Indians of Alabama), Seminole Tribe of Florida (previously listed as the Seminole Tribe of Florida (Dania, Big Cypress, Brighton, Hollywood & Tampa Reservations)), Shawnee Tribe, The Chickasaw Nation, The Muscogee (Creek) Nation, The Seminole Nation of Oklahoma, Thlopthlocco Tribal Town, and United Keetoowah Band of Cherokee Indians in Oklahoma that this notice has been published.

Dated: December 19, 2016.
Melanie O'Brien,
Manager, National NAGPRA Program.

[FR Doc. 2017-03624 Filed 2-23-17; 8:45 am]

BILLING CODE 4312-52-P